NUCLEAR REGULATORY COMMISSION

[NRC-2015-0001]

Sunshine Act Meeting Notice

DATE: April 13, 20, 27, May 4, 11, 18, 2015.

PLACE: Commissioners' Conference Room, 11555 Rockville Pike, Rockville, Maryland.

STATUS: Public and Closed

Week of April 13, 2015

Tuesday, April 14, 2015

9:25 a.m. Affirmation Session (Public Meeting) (Tentative)

a. Final Rule: Revisions to Transportation Safety Requirements and Harmonization with International Atomic Energy Agency Transportation Requirements (RIN 3150-AI11) (Tentative)

b. Nuclear Innovation North America, LLC (South Texas Project Units 3 and 4), Petition for Review of LBP-14-3, Third Party Initial Decision (Contention FC-1) (Tentative)

c. PPL Susquehanna, LLC (Susquehanna Steam Electric Station, Units 2 and 3)—Request for Hearing and Petition to Intervene Re: PPL Susquehanna Application for Indirect License Transfer (Tentative)

This meeting will be webcast live at the Web address— http://www.nrc.gov/.

9:30 a.m. Meeting with the Advisory Committee on the Medical Uses of Isotopes (Public Meeting) (Contact: Nima Ashkeboussi, 301-415-5775)

This meeting will be webcast live at the Web address— http://www.nrc.gov/.

Thursday, April 16, 2015

9:30 a.m. Meeting with the Organization of Agreement States and the Conference of Radiation Control Program Directors (Public Meeting) (Contact: Nima Ashkeboussi, 301-415-5775)

This meeting will be webcast live at the Web address— http://www.nrc.gov/.

Week of April 20, 2015—Tentative

There are no meetings scheduled for the week of April 20, 2015.

Week of April 27, 2015—Tentative

Thursday, April 30, 2105

9:00 a.m. Briefing on the Status of Lessons Learned from the Fukushima Dai-ichi Accident (Public Meeting) (Contact: Jack Davis, 301-415-2239)

This meeting will be webcast live at the Web address— http://www.nrc.gov/.

Week of May 4, 2015—Tentative

There are no meetings scheduled for the week of May 4, 2015.

May 11, 2015—Tentative

There are no meetings scheduled for the week of May 11, 2015.

May 18, 2015—Tentative

Tuesday, May 19, 2015

9:00 a.m. Briefing on Cumulative Effects of Regulation and Risk Prioritization Initiatives (Public Meeting) (Contact: Steve Ruffin, 301-415-1985)

This meeting will be webcast live at the Web address— http://www.nrc.gov/.

Thursday, May 21, 2015

9:00 a.m. Briefing on the Results of the Agency Action Review Meeting (Public Meeting) (Contact: Nathan Sanfilippo, 301-415-8744)

This meeting will be webcast live at the Web address— http://www.nrc.gov/.

* * * * *

The schedule for Commission meetings is subject to change on short notice. For more information or to verify the status of meetings, contact Glenn Ellmers at 301-415-0442 or via email at Glenn.Ellmers@nrc.gov.

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g. braille, large print), please notify Kimberly Meyer, NRC Disability Program Manager, at 301-287-0727, by videophone at 240-428-3217, or by email at Kimberly.Meyer-Chambers@nrc.gov. Determinations on requests for reasonable accommodation will be made on a case-by-case basis.

* * * * *

Members of the public may request to receive this information electronically. If you would like to be added to the distribution, please contact the Nuclear Regulatory Commission, Office of the Secretary, Washington, DC 20555 (301-415-1969), or email Brenda.Akstulewicz@nrc.gov or Patricia.Jimenez@nrc.gov.

April 7, 2015.
Glenn Ellmers,
Policy Coordinator, Office of the Secretary.

[FR Doc. 2015-08377 Filed 4-8-15; 4:15 pm]

BILLING CODE 7590-01-P